DEPARTMENT OF HEALTH AND HUMAN SERVICES

National Institutes of Health

Notice of Listing of Members of the National Institutes of Health's Senior Executive Service Performance Review Board (PRB)

The National Institutes of Health (NIH) announces the persons who will serve on the National Institutes of Health's Senior Executive Service Performance Review Board. This action is being taken in accordance with Title 5, U.S.C., 4314(c)(4), which requires that members of performance review board be appointed in a manner to ensure consistency, stability, and objectivity in performance appraisals, and requires that notice of the appointment of an individual to serve as a member be published in the Federal Register.

The following persons will serve on the NIH Performance Review Board, which oversees the evaluation of performance appraisals of NIH Senior Executive Service (SES) members: Ms. Colleen Barros (Chair), Dr. Norka Ruiz Bravo, Dr. Michael Gottesman, Ms. Lynn Hellinger, Dr. Barry Hoffer, Dr. Sharon Hrynkow, Dr. Betsy Humphreys, Dr. Raynard Kington, Dr. Lore Anne McNicol, Dr. Marcelle Morrison-Bogorad, Ms. Martha Pine, and Dr. Brent Stanfield.

For further information about the NIH Performance Review Board, contact the Office of Human Resources, Workforce Relations Division, National Institutes of Health, Building 31/B3C07, Bethesda, Maryland 20892, telephone (301) 402-9203 (not a toll-free number).

Dated: August 16, 2005.
Elias A. Zerhouni,
Director, National Institutes of Health.

[FR Doc. 05-17019 Filed 8-25-05; 8:45 am]

BILLING CODE 4140-01-M